DEPARTMENT OF COMMERCE

National Telecommunications and Information Administration

2025 NTIA Spectrum Policy Symposium

AGENCY: National Telecommunications and Information Administration, U.S. Department of Commerce.

ACTION: Notice of public meeting.

SUMMARY: The National Telecommunications and Information Administration (NTIA), U.S. Department of Commerce, will host a public spectrum policy symposium on September 10, 2025, providing a forum for NTIA to publicly announce its spectrum policy.

DATES: The 2025 NTIA Spectrum Policy Symposium will be held on September 10, 2025, from 9:30 a.m. to 12:30 p.m., Eastern Daylight Time (EDT).

ADDRESSES: The symposium will take place at the Ronald Reagan Building and International Trade Center, located at 1300 Pennsylvania Avenue NW, Washington, DC 20004. The event also will be webcast through the NTIA website at https://www.ntia.gov/page/ntia-spectrum-policy-symposium.

FOR FURTHER INFORMATION CONTACT: Please direct questions regarding this notice to John Alden, Chief, Spectrum Affairs and Information Division, Office of Spectrum Management, NTIA, at (202) 482-8046 or spectrumsymposium@ntia.gov. Please direct media inquiries to NTIA's Office of Public Affairs, email: press@ntia.gov.

SUPPLEMENTARY INFORMATION: NTIA serves as the president's principal advisor on telecommunications policies and manages the use of the radio-frequency spectrum by federal agencies. See 47 U.S.C. 902(b)(2). NTIA is hosting a symposium to focus on the Administration's implementation of spectrum policies to accelerate U.S. dominance in spectrum-dependent wireless industries. The symposium will feature plans for implementing the spectrum provisions of the One Big Beautiful Bill Act.

Several speakers have been invited to provide keynote remarks. Panelists are expected to include participants from the Executive Office of the President, the FCC, Executive Branch agencies, and leading wireless and satellite companies. Prior to the event, NTIA will post detailed program information on its website: www.ntia.gov.

The symposium is open to the public and members of the press to attend or to view through a webcast available on the NTIA website. While it is not required, NTIA asks that online attendees provide registration information prior to the event. This information will include names, email addresses, and organizations (optional). Registration information, the agenda, meeting updates, if any, and other relevant documents will be available on NTIA's website.

The event webcast will be close-captioned. Individuals requiring special accommodations, such as sign language interpretation or other ancillary aids, should notify Mr. Alden at the contact information listed above at least ten (10) business days before the event.

Dated: August 18, 2025.
David Brodian,
Chief Counsel, National Telecommunications and Information Administration.

[FR Doc. 2025-16291 Filed 8-25-25; 8:45 am]

BILLING CODE 3510-60-P